NATIONAL AERONAUTICS AND SPACE ADMINISTRATION

[Notice (02-052)]

NASA Advisory Council, Space Flight Advisory Committee; Meeting

AGENCY: National Aeronautics and Space Administration (NASA).

ACTION: Notice of meeting.

SUMMARY: In accordance with the Federal Advisory Committee Act, Public Law 92-463, as amended, the National Aeronautics and Space Administration announces a meeting of the NASA Advisory Council, Space Flight Advisory Committee (SFAC).

DATES: Friday, May 3, 2002 from 1:30 p.m. until 2:30 p.m.

ADDRESSES: National Aeronautics and Space Administration, 300 E Street, SW., Room MIC 7, Washington, DC 20546.

FOR FURTHER INFORMATION CONTACT: Mrs. Susan Y. Edgington (Stacey), Code M, National Aeronautics and Space Administration, Washington, DC 20546, 202/358-4519.

SUPPLEMENTARY INFORMATION: The meeting will be open to the public up to seating capacity of the room. The agenda for the meeting is as follows:

—Overview, status of the Office of Space Flight programs. It is imperative that the meeting be held on this date to accommodate the scheduling priorities of the key participants. Visitors will be requested to sign a visitor's register.

Dated: April 17, 2002.
Sylvia K. Kraemer,
Advisory Committee Management Officer, National Aeronautics and Space Administration.

[FR Doc. 02-9838 Filed 4-22-02; 8:45 am]

BILLING CODE 7510-01-P